DEPARTMENT OF HEALTH AND HUMAN SERVICES

Indian Health Service

Organization, Functions, and Delegations of Authority, Part G, Indian Health Service, Proposed Functional Statement

Office of Information Technology (OIT) (GAG)

(1) Provides Chief Information Officer (CIO) services and advises the Director, Indian Health Service (IHS), on all aspects of information resource management and technology; (2) ensures Agency compliance with related Federal laws, regulations, and policies; (3) directs the development, implementation, and maintenance of policies, procedures, standards, and architecture for information resource management, technology activities, and services in the IHS; (4) directs strategic planning and budgeting processes for information resources and technology; (5) leads IHS efforts in developing and implementing information resource and technology management initiatives in IHS; (6) directs the design, development, acquisition, implementation, and support of robust information systems and services used in the IHS; (7) directs the activities of the IHS Information Technology Investment Review Board (ITIRB) in assessing, implementing, and reviewing the Agency's information systems; (8) contracts for information resource and technology-related software, equipment, and support services in collaboration with appropriate acquisition authorities; (9) provides project management support for information resource and technology initiatives; (10) directs the development, implementation, and management of the IHS Information Technology Security program to protect the information resources of the IHS; (11) provides information technology (IT) services and support to IHS, Tribal, and Urban Indian Health Programs (UIHP), including the Resource and Patient Management System (RPMS), Electronic Health Record (EHR), and the National Patient Information Reporting System (NPIRS); (12) ensures accessibility to IT services; (13) represents the IHS and enters into IT agreements with Federal, Tribal, State and other organizations; and (14) participates in cross-cutting issues and processes including, but not limited to, emergency preparedness/security, budget formulation, self-determination issues, Tribal shares computations, and resolution of audit findings as may be needed and appropriate.

Division of Information Technology (GAGA)

(1) Provides Chief Technology Officer IT services and advises the CIO on all aspects of IT; (2) develops clinical and business practice healthcare applications such as the RPMS and the EHR; (3) develops healthcare statistical applications for NPIRS; (4) obtains system and business requirements from stakeholders for system design; (5) provides quality assurance and risk management for software development; (6) develops, implements, and maintains policies, procedures, and standards for system development and technology products and services in the IHS; (7) develops and maintains IT strategic planning documents; (8) develops and maintains the IHS enterprise architecture; (9) develops and implements IT management initiatives in IHS; (10) ensures IHS IT infrastructure resource consolidation and standardization efforts support IHS healthcare delivery and program administration; (11) represents the IHS to Federal, Tribal, State, and other organizations; and (12) participates in cross-cutting issues and processes that involve IT.

Division of Program Management and Budget (GAGB)

(1) Advises the CIO on all business aspects of information resources and project management; (2) develops information resource policies and procedures; (3) develops the IHS IT budget and related documents; (4) provides budget analyses and reports to the CIO; (5) develops strategies for presenting the IHS IT budget to IHS, Tribal, and UIHP; (6) provides technical analyses, guidance, and support for IHS capital planning and investment control activities; (7) manages the IHS portfolio management tool; (8) manages the activities of the IHS ITIRB in assessing, implementing and reviewing the Agency's information systems; (9) develops project management policies and procedures; (10) identifies alternatives among internal and external sources and recommends the best sources to supply information resource and technology products and services to IHS; (11) develops information resource and technology project governance structures to support effective project management; (12) provides project management and related support for IHS developed and acquired information resources and technology products and services; (13) provides contract management support for IT initiatives; (14) provides contract liaison services to appropriate acquisition authorities; (15) participates in cross-cutting issues and processes that involve IT; and (16) represents the IHS to Federal, Tribal, State, and other organizations.

Division of Information Technology Operations (GAGC)

(1) Advises the CIO on all aspects of implementing and deploying computer systems including RPMS; (2) installs and maintains enterprise computer systems and associated hardware and operating systems; (3) installs and maintains enterprise application software; (4) furnishes IRS-wide video conferencing solutions and services; (5) delivers desktop and office automation support; (6) provides 24 x 7 helpdesk support for RPMS and office applications; (7) maintains LISTserv capabilities; (8) provides customer relationship management support for IT systems; (9) performs Web monitoring and filtering services; (10) designs and implements Web sites in compliance with Section 508 Accessibility regulations; (11) operates and maintains data centers; (12) installs and supports e-mail, file, and print services; (13) provides Domain Name Services; (14) designs, implements, and maintains IHS's backbone network infrastructure; (15) monitors network infrastructure for anomalies; (16) provides project management support for systems design and deployment to ensure customer satisfaction; (17) represents the IRS to Federal, Tribal, State, and other organizations; and (18) participates in cross-cutting issues and processes that involve information resources and technology project management.

Division of Information Security (GAGD)

(1) Advises the CIO on all aspects of information security; (2) develops, implements, and monitors the IHS Information Security program to ensure adequate protection of information; (3) develops and maintains information security policies, procedures, and guidelines to safeguard information and IT systems; (4) develops and reviews IHS IT security plans; (5) assesses the risk and magnitude of harm that could result from unauthorized access, use, disclosure, disruption, modification, or destruction of information and information systems that support the operations and assets of IHS; (6) ensures that security and privacy have been incorporated in information system lifecycle plans; (7) conducts vulnerability assessment of IHS's IT infrastructure; (8) coordinates activities with internal and external organizations reviewing the IHS's information resources for fraud, waste, and abuse; (9) develops and implements employee information security awareness training programs; (10) manages the IHS Information Security Incident Response Team; (11) represents the IHS to Federal, Tribal, State, and other organizations regarding information security; and (12) participates in cross-cutting issues and processes that involve information security.

This reorganization shall be effective July 17, 2008.

Dated: July 8, 2008.
Robert G. McSwain,
Director, Indian Health Service

[FR Doc. E8-16353 Filed 7-16-08; 8:45 am]

BILLING CODE 4160-16-M